DEPARTMENT OF TRANSPORTATION

Federal Highway Administration

Environmental Impact Statement: Union and Mecklenburg Counties, North Carolina

AGENCY: Federal Highway Administration.

ACTION: Notice of intent.

SUMMARY: The FHWA is issuing this notice to advise the public that an environmental impact statement will be prepared for a proposed highway project in Union and Mecklenburg Counties, North Carolina.

FOR FURTHER INFORMATION CONTACT: Mr. Roy C. Shelton, Operations Engineer, Federal Highway Administration, 310 New Bern Avenue, Suite 410, Raleigh, North Carolina 27601. Telephone: (919) 856-4350.

SUPPLEMENTARY INFORMATION: The FHWA, in cooperation with the North Carolina Department of Transportation (NCDOT), will prepare an environmental impact statement (EIS) addressing proposed improvements to the US 74 corridor between US 601, in Union County and I-485, in Mecklenburg County. The proposed action would involve the construction of a multi-lane divided, controlled access highway connecting US 601 to I-485. The proposed facility is the final link of the US 74 Intrastate Corridor identified for improvement and would extend freeway travel from eastern Union County, through Mecklenburg and Gaston Counties, to eastern Cleveland County. The proposed facility would address existing and anticipated future traffic congestion in the area as well as improve driver safety through increased capacity and control of access. The proposed action is consistent with the thoroughfare plans approved by the Monroe and Mecklenburg-Union Metropolitan Planning Organizations.

Alternatives under consideration include: (1) No-Build; (2) Transportation Systems Management (TSM); (3) Mass Transit; (4) Improve Existing US 74; and (5) Construction of a facility on new location.

Letters describing the proposed action and soliciting comments have been sent to appropriate Federal, State and local agencies. Public information meetings, meetings with local officials, and a public hearing will be held. Information on the time and place of the public information meetings, and public hearing will be provided in the local news media. The draft EIS will be available for public and agency review and comment prior to the public hearing.

To ensure that the full range of issues related to the proposed action are addressed and all significant issues identified, comments and suggestions are invited from all interested parties. Comments and questions concerning the proposed action should be directed to the FHWA at the address provided above.

(Catalog of Federal Domestic Assistance Program Number 20.205, Highway Research Planning and Construction. The regulations implementing Executive Order 12372 regarding the intergovernmental consultation on Federal programs and activities apply to this program).

Dated: April 4, 2000.
Roy C. Shelton,
Operations Engineer, Federal Highway Administration, Raleigh, North Carolina.

[FR Doc. 00-9228 Filed 4-12-00; 8:45 am]

BILLING CODE 4910-22-M